DEPARTMENT OF TRANSPORTATION

Federal Aviation Administration

Seventy-Ninth Meeting—Special Committee 159—Global Positioning System (GPS)

AGENCY: Federal Aviation Administration (FAA), DOT.

ACTION: Notice of RTCA Special Committee 159 meeting.

SUMMARY: The FAA is issuing this notice to advise the public of a meeting of RTCA Special Committee 159: Global Positioning System (GPS).

DATES: The meeting will be held June 23-26, 2009, from 9 a.m. to 4:30 p.m. (unless stated otherwise).

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 159 meeting. The agenda will include:

June 23

• All Day, Working Group 2C, GPS/Inertial, Colson Board Room.

June 24

• All Day, Working Group 2, GPS/WAAS, Colson Board Room.

June 25

• All Day, Working Group 4, Precision Landing Guidance (GPS/LAAS), MacIntosh-NBAA Room & Hilton-ATA Room.

June 26

• Open Plenary (Chairman's Introductory Remarks, Approval of Summary of the Seventy-Eighth Meeting held February 13, 2009, RTCA Paper No. 122-09/SC159-978).

• Review Working Group (WG) Progress and Identify Issues for Resolution.

• GPS/3nd Civil Frequency (WG-1)

• GPS/WAAS (WG-2)

• GPS/GLONASS (WG-2A)

• GPS/Inertial (WG-2C)

• GPS/Precision Landing Guidance and (WG-4)

• GPS/Airport Surface Surveillance (WG-5)

• GPS/Interference (WG-6)

• GPS/Antennas (WG-7)

• GPS/GRAS (WG-8)

• Review of EUROCAE Activities.

• Closing Plenary Session.

(Assignment/Review of Future Work, Other, Date and Place of Next Meeting.)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 27, 2009.
Francisco Estrada C.,
RTCA Advisory Committee.

[FR Doc. E9-12990 Filed 6-3-09; 8:45 am]

BILLING CODE 4910-13-P